DEPARTMENT OF TRANSPORTATION

Federal Aviation Administration

14 CFR Part 39

[Docket No. FAA-2019-1056; Product Identifier 2018-SW-047-AD; Amendment 39-21193; AD 2020-16-09]

RIN 2120-AA64

Airworthiness Directives; Airbus Helicopters (Type Certificate Previously Held by Eurocopter France) Helicopters

AGENCY: Federal Aviation Administration (FAA), DOT.

ACTION: Final rule.

SUMMARY: The FAA is superseding Airworthiness Directive (AD) 2009-25-09 for Eurocopter France (now Airbus Helicopters) Model SA330F, G, and J helicopters. AD 2009-25-09 required re-adjusting the torque of the main gearbox (MGB) flexible coupling bolts. Since the FAA issued AD 2009-25-09, Airbus Helicopters has modified the MGB overhaul and repair procedures, which corrects the unsafe condition. Additionally, the FAA-validation for Model SA330F and G helicopters has been cancelled. This new AD retains the requirements of AD 2009-25-09 and revises the applicability by excluding Model SA330F and G helicopters and excludes MGBs that have been subject to the modified procedures. The actions of this AD are intended to address an unsafe condition on these products.

DATES: This AD is effective September 10, 2020.

The Director of the Federal Register approved the incorporation by reference of a certain publication listed in this AD as of September 10, 2020.

The Director of the Federal Register approved the incorporation by reference of certain publications listed in this AD as of December 29, 2009 (74 FR 66045 December 14, 2009).

ADDRESSES: For service information identified in this final rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. It is also available on the internet at https://www.regulations.gov by searching for and locating Docket No. FAA-2019-1056.

Examining the AD Docket

You may examine the AD docket on the internet at https://www.regulations.gov in Docket No. FAA-2019-1056; or in person at Docket Operations between 9 a.m. and 5 p.m., Monday through Friday, except Federal holidays. The AD docket contains this AD, the European Aviation Safety Agency (now European Union Aviation Safety Agency) (EASA) AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: James Blyn, Aviation Safety Engineer, Safety Management Section, Rotorcraft Standards Branch, FAA, 10101 Hillwood Pkwy., Fort Worth, TX 76177; telephone 817-222-5110; email james.blyn@faa.gov.

SUPPLEMENTARY INFORMATION:

Discussion

The FAA issued a notice of proposed rulemaking (NPRM) to amend 14 CFR part 39 to remove AD 2009-25-09, Amendment 39-16128 (74 FR 66045, December 14, 2009) (“AD 2009-25-09”) and add a new AD. AD 2009-25-09 applied to Eurocopter France (now Airbus Helicopters) Model SA330F, G, and J helicopters. The NPRM published in the Federal Register on December 20, 2019 (84 FR 70076). AD 2009-25-09 was prompted by EASA AD No. 2008-0049-E, dated March 3, 2008 and corrected March 7, 2008 (EASA AD 2008-0049-E), to correct an unsafe condition on Model SA 330 F, G, and J helicopters. The NPRM proposed to retain the attachment hardware torque verification and re-adjustment requirements of AD 2009-25-09, and would revise the applicability paragraph by excluding Model SA330F and G helicopters and by excluding input flexible coupling flange assemblies that have been installed in an MGB that has been overhauled after April 1, 2015.

The NPRM was prompted by EASA AD No. 2008-0049R1, dated December 18, 2015 (EASA AD 2008-0049R1), issued by EASA, which is the Technical Agent for the Member States of the European Union, to correct an unsafe condition for Airbus Helicopters Model SA 330 J helicopters. EASA advises that since EASA AD 2008-0049-E was issued, Airbus Helicopters has improved its procedures for assembling the flexible coupling-to-flanges during MGB overhaul and maintenance of individual flexible couplings. EASA further states that the improved maintenance procedures ensure the correct torqueing of the attachment bolts of the flexible couplings. Because of these improved procedures, EASA AD 2008-0049R1 states that installing a coupling-to-flange assembly that has been subject to improved maintenance procedures after April 1, 2015, is an acceptable method to comply with the requirements of that AD. The FAA agrees with EASA's determination and therefore proposed to change AD 2009-25-09 accordingly.

Comments

The FAA gave the public the opportunity to participate in developing this AD, but did not receive any comments on the NPRM.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of these same type designs and that air safety and the public interest require adopting the AD requirements as proposed.

Related Service Information Under 1 CFR Part 51

The FAA reviewed Eurocopter Emergency Alert Service Bulletin No. 05.95, dated March 3, 2008, and Airbus Helicopters Emergency Alert Service Bulletin No. 05.95, Revision 1, dated October 22, 2015, which specify procedures for readjusting or checking the tightening torque load of the hardware attaching the flexible coupling to the sliding coupling flange and the bolts attaching the flexible coupling to the fixed coupling flange. Revision 1 of this service information excludes from its applicability certain flexible coupling assemblies that have undergone the improved procedures.

This service information is reasonably available because the interested parties have access to it through their normal course of business or by the means identified in the ADDRESSES section.

Differences Between This AD and the Service Information

The service information requires contacting the manufacturer depending on the results of an inspection, but this AD does not.

Costs of Compliance

The FAA estimates that this AD affects 16 helicopters of U.S. Registry. The FAA estimates that operators may incur the following costs in order to comply with this AD. Labor costs are estimated at $85 per work-hour.

Re-adjusting the tightening torque on the flexible coupling-to-flange attachment bolts takes about 8 work-hours for an estimated cost of $680 per helicopter and $10,880 for the U.S. fleet.

For MGB input flexible coupling flange assemblies with more than 75 hours time-in-service, inspecting the tightening torque load on the flexible coupling-to-flange attachment bolts takes about 10 work-hours for an estimated cost of $850 per helicopter.

If required, replacing a damaged flexible coupling takes about 1 work-hour in addition to those required for disassembling and inspecting the flexible coupling flange assembly and parts cost about $2,046 for an estimated cost of $2,131 per helicopter.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2009-25-09, Amendment 39-16128 (74 FR 66045, December 14, 2009); and

b. Adding the following new AD:

2020-16-09 Airbus Helicopters (Type Certificate Previously Held by Eurocopter France): Amendment 39-21193; Docket No. FAA-2019-1056; Product Identifier 2018-SW-047-AD.

(a) Applicability

This AD applies to Airbus Helicopters (previously Eurocopter France) Model SA330J helicopters, certificated in any category, with a main gearbox (MGB) input flexible coupling flange assembly part number 330A-32937401 installed, that has been modified per MOD 0752416 and MOD 0752419, excluding:

(1) Assemblies that have been subject to a maintenance scheduled inspection per Working Card 65.32.601 since new or since a complete overhaul of the MGB; and

(2) Assemblies installed on an MGB that has undergone complete overhaul after April 1, 2015, and that have not been replaced since the complete overhaul of the MGB.

(b) Unsafe Condition

This AD defines the unsafe condition as progressive fatigue failure of the coupling discs, caused by excessive fretting on the faces and in the bolt holes of the coupling discs. This condition, if not corrected, could result in loss of the MGB input, loss of the drive transmission, and subsequent loss of control of the helicopter.

(c) Affected ADs

This AD replaces AD 2009-25-09, Amendment 39-16128 (74 FR 66045, December 14, 2009).

(d) Effective Date

This AD becomes effective September 10, 2020.

(e) Compliance

You are responsible for performing each action required by this AD within the specified compliance time unless it has already been accomplished prior to that time.

(f) Required Actions

(1) For MGB input flexible coupling flange assemblies with less than 50 hours time-in-service (TIS) since new or since a complete overhaul of the MGB, re-adjust the tightening torque load of the 6 nuts on the flexible coupling-to-flange attachment bolts. Accomplish this re-adjustment between 50 hours TIS and 75 hours TIS since new or since a complete overhaul of the MGB in accordance with paragraph 2.B.2.a. of Eurocopter Emergency Alert Service Bulletin No. 05.95, dated March 3, 2008 (EASB 05.95) or Airbus Helicopters Emergency Alert Service Bulletin No. 05.95, Revision 1, dated October 22, 2015 (EASB 05.95 Rev 1).

(2) For MGB input flexible coupling flange assemblies with 50 hours TIS and 75 or less hours TIS since new or since a complete overhaul of the MGB, either:

(i) Upon or before reaching 75 hours TIS since new or since a complete overhaul of the MGB, re-adjust the tightening torque load of the 6 nuts on the flexible coupling-to-flange attachment bolts in accordance with paragraph 2.B.2.a. of EASB 05.95 or EASB 05.95 Rev 1; or

(ii) Upon or before reaching 125 hours TIS since new or since a complete overhaul of the MGB, inspect the tightening torque load of the 6 nuts on the flexible coupling-to-flange attachment bolts in accordance with paragraph 2.B.2.b. of EASB 05.95 or EASB 05.95 Rev 1, except you are not required to contact the manufacturer.

(3) For MGB input flexible coupling flange assemblies that have more than 75 hours TIS since new or since a complete overhaul of the MGB, within the next 50 hours TIS, inspect the tightening torque load of the 6 nuts on the flexible coupling-to-flange attachment bolts, in accordance with paragraph 2.B.2.b. of EASB 05.95 Rev 1, except you are not required to contact the manufacturer.

(4) Prior to installing an MGB that contains an input flexible coupling flange assembly that has been modified per MOD 0752416 and MOD 0752419, you must comply with the provisions of this AD.

(g) Alternative Methods of Compliance (AMOCs)

(1) The Manager, Rotorcraft Standards Branch, FAA, may approve AMOCs for this AD. Send your proposal to: James Blyn, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

The subject of this AD is addressed in European Aviation Safety Agency (now European Union Aviation Safety Agency) (EASA) AD No. 2008-0049R1, dated December 18, 2015. You may view the EASA AD on the internet at https://www.regulations.gov in Docket No. FAA-2019-1056.

(i) Subject

Joint Aircraft Service Component (JASC) Code: 6310, Engine Transmission Coupling.

(j) Material Incorporated by Reference

(1) The Director of the Federal Register approved the incorporation by reference of the service information listed in this paragraph under 5 U.S.C. 552(a) and 1 CFR part 51.

(2) You must use this service information as applicable to do the actions required by this AD, unless the AD specifies otherwise.

(3) The following service information was approved for IBR on September 10, 2020.

(i) Airbus Helicopters Emergency Alert Service Bulletin No. 05.95, Revision 1, dated October 22, 2015.

(ii) [Reserved]

(4) The following service information was approved for IBR on December 29, 2009 (74 FR 66045, December 14, 2009).

(i) Eurocopter Emergency Alert Service Bulletin No. 05.95, dated March 3, 2008.

(ii) [Reserved]

(5) For service information identified in this AD, contact Airbus Helicopters, 2701 N Forum Drive, Grand Prairie, TX 75052; telephone 972-641-0000 or 800-232-0323; fax 972-641-3775; or at https://www.airbus.com/helicopters/services/technical-support.html.

(6) You may view this service information at the FAA, Office of the Regional Counsel, Southwest Region, 10101 Hillwood Pkwy., Room 6N-321, Fort Worth, TX 76177. For information on the availability of this material at the FAA, call 817-222-5110.

(7) You may view this service information that is incorporated by reference at the National Archives and Records Administration (NARA). For information on the availability of this material at NARA, email fedreg.legal@nara.gov, or go to: https://www.archives.gov/federal-register/cfr/ibr-locations.html.

Issued on July 23, 2020.
Lance T. Gant,
Director, Compliance & Airworthiness Division, Aircraft Certification Service.

[FR Doc. 2020-17164 Filed 8-5-20; 8:45 am]

BILLING CODE 4910-13-P